DEPARTMENT OF HEALTH AND HUMAN SERVICES

National Institutes of Health

National Institute of Dental & Craniofacial Research; Amended Notice of Meeting

Notice is hereby given of a change in the meeting of the Board of Scientific Counselors, National Institute of Dental and Craniofacial Research, December 02, 2025, 10:00 a.m. to December 02, 2025, 03:00 p.m., National Institute of Dental Craniofacial Research, 31 Center Drive, Bethesda, MD 20892 which was published in the Federal Register on September 23, 2025, 90 FR 45785.

This notice is being amended to change the meeting date from December 2, 2025, to January 12, 2026. The timeframe remains 10:00 a.m. to 3:00 p.m. The meeting is closed to the public.

Dated: November 18, 2025.
Rosalind M. Niamke,
Program Analyst, Office of Federal Advisory Committee Policy.

[FR Doc. 2025-20594 Filed 11-20-25; 8:45 am]

BILLING CODE 4140-01-P